DEPARTMENT OF STATE

[Delegation of Authority No. 453]

Delegation of Authority to the Under Secretary of State for Arms Control and International Security To Concur With the Use of the Coalition Support Fund, Including the Coalition Readiness Support Program

By virtue of the authority vested in the Secretary of State, including section 1 of the State Department Basic Authorities Act (22 U.S.C. 2651a) and section 1233 of the National Defense Authorization Act for Fiscal Year 2008 (Pub. L. 110-181) (FY 2008 NDAA), I hereby delegate to the Under Secretary of State for Arms Control and International Security, to the extent authorized by law, the authority to concur with the Secretary of Defense's use of the Coalition Support Fund, including the Coalition Readiness Support Program, pursuant to section 1233 of the FY 2008 NDAA.

Notwithstanding this delegation of authority, any function or authority delegated herein may be exercised by the Secretary or the Deputy Secretary. Any reference in this delegation of authority to any statute shall be deemed to be a reference to such statute as amended from time to time, and shall be deemed to apply to any provision of law that is the same or substantially the same as such statute.

This delegation of authority shall be published in the Federal Register.

Dated: August 21, 2018.
Michael R. Pompeo,
Secretary of State.

[FR Doc. 2018-20060 Filed 9-13-18; 8:45 am]

BILLING CODE 4710-25-P